DEPARTMENT OF HOUSING AND URBAN DEVELOPMENT

[Docket No. FR-5125-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Kathryn M. Halvorson, Director, Air Force Real Property Agency, 1700 North Moore Street, Suite 2300, Arlington, VA 22209; (703) 696-5502; Coast Guard: Commandant, U.S. Coast Guard, Attn: Teresa Sheinberg, 2100 Second St, SW., Rm 6109, Washington, DC 20593-0001; (202) 267-6142; COE: Ms. Tracy Beck, Army Corps of Engineers, Office of Counsel, CECC-R, 441 G Street, NW., Washington DC 20314-1000; (202) 761-0019; Energy: Mr. John Watson, Department of Energy, Office of Engineering & Construction Management, ME-90, 1000 Independence Ave, SW., Washington, DC 20585: (202) 586-0072; GSA: Mr. John E.B. Smith, Deputy Assistant Commissioner, General Services Administration, Office of Property Disposal, 18th and F Streets, NW., Washington, DC 20405; (202) 501-0084; Interior: Mr. Michael Wright, Acquisition & Property Management, Department of the Interior, 1849 C Street, NW., MS2603, Washington, DC 20240; (202) 513-0747; Navy: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: November 29, 2007.
Mark R. Johnston,
Deputy Assistant Secretary for Special Needs.

Title V, Federal Surplus Property Program; Federal Register Report

Suitable/Available Properties; Land

South Dakota

40 Acres—N-2,

Minuteman Missile Site

Butte, SD

Landholding Agency: GSA

Property Number: 54200740008

Status: Surplus

GSA Number: 7-D-SD-0521-HA

Comments: Restrictions & Covenants

40 acres—Mike 4

Minuteman Missile Launch Facility

Butte, SD 57706

Landholding Agency: GSA

Property Number: 54200740009

Status: Surplus

GSA Number: 7-D-SD-0521-GZ

Comments: Restrictions & Covenants

Unsuitable Properties; Building

California

Bldgs. 02845, 05331, 06790

Edwards AFB

Kern, CA 93524

Landholding Agency: Air Force

Property Number: 18200740001

Status: Unutilized

Reasons: Extensive deterioration

Bldgs. 07173, 07175, 07980

Edwards AFB

Kern, CA 93524

Landholding Agency: Air Force

Property Number: 18200740002

Status: Unutilized

Reasons: Secured Area.

Bldg. 259

Naval Air Station

North Island, CA

Landholding Agency: Navy

Property Number: 77200740015

Status: Excess

Reasons: Extensive deterioration Secured Area

Unsuitable Properties; Building

California

Bldg. 41356

Marine Corps Base

Camp Pendleton, CA 92055

Landholding Agency: Navy

Property Number: 77200740017

Status: Excess

Reasons: Secured Area. Extensive deterioration

Florida

Bldg. 01248,

Cape Canaveral AFS

Brevard, FL 32925

Landholding Agency: Air Force

Property Number: 18200740003

Status: Unutilized

Reasons: Secured Area

Bldg. 44426

Cape Canaveral AFS

Brevard, FL 32925

Landholding Agency: Air Force

Property Number: 18200740004

Status: Unutilized

Reasons: Secured Area

Unsuitable Properties; Building

Florida

Bldg. 85406

Cape Canaveral AFS

Brevard, FL 32925

Landholding Agency: Air Force

Property Number: 18200740005

Status: Unutilized

Reasons: Secured Area

88 Facilities

Saufley Field

Pensacola, FL 32508

Landholding Agency: Navy

Property Number: 77200740016

Status: Unutilized

Reasons: Within airport runway clear zone

Hawaii

Bldgs. 1028, 1029

Hickam AFB

Hickam, HI 96853

Landholding Agency: Air Force

Property Number: 18200740006

Status: Unutilized

Reasons: Secured Area

Bldgs. 1710, 1711

Hickam AFB

Hickam, HI 96853

Landholding Agency: Air Force

Property Number: 18200740007

Status: Unutilized

Reasons: Secured Area

Unsuitable Properties; Building

Illinois

Comfort Station

Rend Lake Project

Benton, IL 62812

Landholding Agency: COE

Property Number: 31200740001

Status: Excess.

Reasons: Extensive deterioration

Trailers 092, 120, 121, 143

Fermi Nat'l Accelerator Lab

Batavia, IL 60510

Landholding Agency: Energy

Property Number: 41200740004

Status: Excess

Reasons: Extensive deterioration

Kansas

Vault Toilet

Farnum Creek Boat Ramp

Junction City, KS 66441

Landholding Agency: COE

Property Number: 31200740002

Status: Excess

Reasons: Extensive deterioration

Vault Toilet

North Overlook Park

Junction City, KS 66441

Landholding Agency: COE

Property Number: 31200740003

Status: Excess

Reasons: Extensive deterioration

Unsuitable Properties; Building

Kansas

Vault Toilet

Curtis Creek Boat Ramp

Junction City, KS 66441

Landholding Agency: COE

Property Number: 31200740004

Status: Excess

Reasons: Extensive deterioration

House

Pomona Lake Project

Vassar, KS 66453

Landholding Agency: COE

Property Number: 31200740005

Status: Excess

Reasons: Extensive deterioration

Bldg 25034

Lucas Park

Sylvan Grove, KS 67481

Landholding Agency: COE

Property Number: 31200740006

Status: Excess

Reasons: Extensive deterioration

2 Vault Toilets

Tuttle Creek

Manhattan, KS 66502

Landholding Agency: COE

Property Number: 31200740007

Status: Excess

Reasons: Extensive deterioration

Unsuitable Properties; Building

Kentucky

Sewage Treatment Plant

Smith Ridge Rec Area

Campbellsville, KY 42718

Landholding Agency: COE

Property Number: 31200740008

Status: Excess

Reasons: Extensive deterioration

Missouri

Bldgs 05004, 05008

Cedar Ridge Park

Stockton, MO 65785

Landholding Agency: COE

Property Number: 31200740009

Status: Excess

Reasons: Extensive deterioration

Bldg 11002

Greenfield Access

Stockton, MO 65785

Landholding Agency: COE

Property Number: 31200740010

Status: Excess

Reasons: Extensive deterioration

Bldgs 14008, 14009, 14010

Hawker Point Park

Stockton, MO 65785

Landholding Agency: COE

Property Number: 31200740011

Status: Excess

Reasons: Extensive deterioration

Unsuitable Properties; Building

Missouri

Bldg 34006

Orleans Trail Park

Stockton, MO 65785

Landholding Agency: COE

Property Number: 31200740012

Status: Excess

Reasons: Extensive deterioration

Bldg ES801-8319

Wappapello Lake Project

Wayne, MO 63966

Landholding Agency: COE

Property Number: 31200740013

Status: Excess

Reasons: Extensive deterioration

North Carolina

Bldg MC-A01

Morehead City, NC

Landholding Agency: COE

Property Number: 31200740014

Status: Excess

Reasons: Extensive deterioration

Unsuitable Properties; Building

Ohio

NIKE Site Cd-46

Felicity, OH

Landholding Agency: COE

Property Number: 31200740015

Status: Excess

Reasons: Extensive deterioration

Installation 39875

Hayes Reserve Center

Fremont, OH 43420

Landholding Agency: COE

Property Number: 31200740016

Status: Excess

Reasons: Extensive deterioration

Oklahoma

Gatehouse

Porum Landing

Stigler, OK 75562

Landholding Agency: COE

Property Number: 31200740017

Status: Unutilized

Reasons: Extensive deterioration

Bldgs. 42008, 55088

Webbers Falls Lake

Webbers Falls, OK

Landholding Agency: COE

Property Number: 31200740019

Status: Unutilized

Reasons: Extensive deterioration

Unsuitable Properties; Building

South Dakota

Bldg. 2306

Ellsworth AFB

Meade, SD 57706

Landholding Agency: Air Force

Property Number: 18200740008

Status: Underutilized

Reasons: Within 2000 ft. of flammable or explosive material. Secured Area.

Texas

148 Bldgs.

Texoma Lake

Denison, TX

Landholding Agency: COE

Property Number: 31200740018

Status: Unutilized

Reasons: Extensive deterioration

Virginia

Bldgs. JHK-17433, JHK-17446

John H. Kerr Project

Boydton, VA

Landholding Agency: COE

Property Number: 31200740020

Status: Unutilized

Reasons: Extensive deterioration

Unsuitable Properties; Building

Virginia

9 Bldgs.

USCG Cape Charles Station

Winters Quarters

Northampton, VA 23310

Landholding Agency: Coast Guard

Property Number: 88200740001

Status: Unutilized

Reasons: Extensive deterioration

Land

Utah

0.47 acre

Feeder Canal

Hyrum, UT 84319

Landholding Agency: Interior

Property Number: 61200740007

Status: Excess

Reasons: Other—landlocked

[FR Doc. E7-23507 Filed 12-6-07; 8:45 am]

BILLING CODE 4210-67-P